INTERNATIONAL TRADE COMMISSION

[USITC SE-19-023]

Sunshine Act Meetings

Agency Holding the Meeting: United States International Trade Commission.

TIME AND DATE: June 24, 2019 at 10:15 a.m.

PLACE: Room 101, 500 E Street SW, Washington, DC 20436, Telephone: (202) 205-2000.

STATUS: Open to the public.

MATTERS TO BE CONSIDERED: 1. Agendas for future meetings: None.

2. Minutes.

3. Ratification List.

4. Vote on Inv. Nos. 701-TA-624-625 and 731-TA-1450-1451 (Preliminary) (Quartz Surface Products from India and Turkey). The Commission is currently scheduled to complete and file its determinations on June 24, 2019; views of the Commission are currently scheduled to be completed and filed on July 1, 2019.

5. Outstanding action jackets: None.

In accordance with Commission policy, subject matter listed above, not disposed of at the scheduled meeting, may be carried over to the agenda of the following meeting.

By order of the Commission.
Issued: June 10, 2019.
William Bishop,
Supervisory Hearings and Information Officer.

[FR Doc. 2019-12575 Filed 6-11-19; 11:15 am]

BILLING CODE 7020-02-P